Title 3—

The President

Memorandum of May 1, 2009

Establishment of the Interagency Committee on Trade in Timber Products from Peru and Assignment of Function under Section 501 of the United States-Peru Trade Promotion Agreement Implementation Act

Memorandum for the Secretary of State, the Secretary of the Treasury, the Attorney General, the Secretary of the Interior, the Secretary of Agriculture, the Secretary of Homeland Security, United States Trade Representative, [and] Administrator of the United States Agency for International Development

Section 501 of the United States-Peru Trade Promotion Agreement Implementation Act (the “Act”), Public Law 110-138, calls for the establishment of an interagency committee with responsibility for overseeing the implementation of Annex 18.3.4 of the United States-Peru Trade Promotion Agreement (the “Agreement”) within 90 days after the date on which the Agreement enters into force. The Agreement entered into force on February 1, 2009. Therefore, by the authority vested in me as President under the Constitution and the laws of the United States, including section 301 of title 3, United States Code, and section 501 of the Act, I order as follows:

Section 1. Establishment of Interagency Committee. The Interagency Committee on Trade in Timber Products from Peru (Committee) is hereby established to oversee the implementation of Annex 18.3.4 of the Agreement, including by undertaking such actions and making such determinations provided for in section 501 of the Act that are not otherwise authorized under law.

Sec. 2. Membership. The Committee shall be composed of representatives of the Departments of State, Justice, the Interior, and Agriculture, and the Office of the United States Trade Representative (USTR), and all representatives shall be officers of the United States. The USTR's representative shall serve as chair. Representatives of the Department of Homeland Security and the United States Agency for International Development shall participate on the Committee as observers. The chair may invite representatives from other departments or agencies, as appropriate, to participate as observers.

Sec. 3. Assignment of Function. The function vested in the President by section 501(h) of the Act is assigned to the USTR.

Sec. 4. Committee Decision-making. The Committee shall endeavor to make any decision on an action or determination under section 501 of the Act by consensus, which shall be deemed to exist where no Committee member objects to the proposed action or determination. If the Committee is unable to reach a consensus on a proposed action or determination and the chair determines that allotting further time will cause a decision to be unduly delayed, the Committee shall decide the matter by majority vote of its members.

Sec. 5. Implementing Measures. The Secretaries of the Treasury, the Interior, Agriculture, and Homeland Security are directed to issue, in consultation with the USTR, such regulations and other measures as are necessary or appropriate to implement section 501 of the Act.

Sec. 6. General Provisions.

(a) Each department and agency shall bear its own expenses incurred in connection with the Committee's functions, including expenses it incurs in carrying out verification visits described in section 501(c)(3) of the Act.

(b) Nothing in this memorandum shall be construed to impair or otherwise affect:

(i) authority granted by law to a department, agency, or the head thereof; or

(ii) functions of the Director of the Office of Management and Budget relating to budgetary, administrative, or legislative proposals.

(c) This memorandum shall be implemented consistent with applicable law and subject to the availability of appropriations.

(d) This memorandum is not intended to, and does not, create any right or benefit, substantive or procedural, enforceable at law or in equity by any party against the United States, its departments, agencies, or entities, its officers, employees, or agents, or any other person.

Sec. 7. Publication. The USTR is authorized and directed to publish this memorandum in the Federal Register.

THE WHITE HOUSE,

Washington, May 1, 2009

[FR Doc. E9-10648

Filed 5-5-09; 8:45 am]

Billing code 3190-01-P